DEPARTMENT OF AGRICULTURE

Foreign Agricultural Service

Trade Adjustment Assistance for Farmers

AGENCY: Foreign Agricultural Service, USDA.

ACTION: Notice.

The Administrator, Foreign Agricultural Service (FAS), certified a petition for trade adjustment assistance (TAA) that was filed on October 21, 2003, by the Georgia Shrimp Association, Darien, Georgia. Shrimpers in Georgia are now eligible to apply for program benefits.

SUPPLEMENTARY INFORMATION: Upon investigation, the Administrator determined that increased imports of farmed shrimp contributed importantly to a decline in the landed prices of shrimp in Georgia by 26.0 percent during January 2002 through December 2002, when compared with the previous 5-year average.

Shrimpers certified as eligible for TAA may apply to the Farm Service Agency for benefits through February 9, 2004. After submitting completed applications, producers shall receive technical assistance provided by the Extension Service at no cost and an adjustment assistance payment, if certain program criteria are met.

Producers of raw agricultural commodities wishing to learn more about TAA and how they may apply should contact the Department of Agriculture at the addresses provided below for General Information.

Producers Certified as Eligible for TAA, Contact: Farm Service Agency service centers in Georgia.

For General Information About TAA, Contact: Jean-Louis Pajot, Coordinator, Trade Adjustment Assistance for Farmers, FAS, USDA, (202) 720-2916, e-mail: trade.adjustment@fas.usda.gov.

Dated: November 7, 2003.
A. Ellen Terpstra,
Administrator, Foreign Agricultural Service.

[FR Doc. 03-28829 Filed 11-18-03; 8:45 am]

BILLING CODE 3410-10-M